OFFICE OF PERSONNEL MANAGEMENT

[OMB Control No. 3206-0042; RI 25-15]

Submission for OMB Review; Request for Review of a Revised Information Collection

AGENCY: Office of Personnel Management.

ACTION: Notice.

SUMMARY: In accordance with the Paperwork Reduction Act of 1995 (Pub. L. 104-13, May 22, 1995 and 5 CFR 1320), this notice announces that the Office of Personnel Management (OPM) has submitted to the Office of Management and Budget (OMB) a request for review of a revised information collection. This information collection, “Notice of Change in Student's Status” (OMB Control No. 3206-0042; Form RI 25-15), is used to collect sufficient information from adult children of deceased Federal employees or annuitants to assure that the child continues to be eligible for payments from OPM.

We estimate 2,500 certifications are processed annually. Each form takes approximately 20 minutes to complete. The annual estimated burden is 835 hours.

For copies of this proposal, contact Cyrus S. Benson by telephone (202) 606-4808, FAX (202) 606-0910 or by e-mail to Cyrus.Benson@opm.gov. Please include a mailing address with your request.

DATES: Comments on this proposal should be received within 30 calendar days from the date of this publication.

ADDRESSES: Send or deliver comments to—

James K. Freiert, Deputy Assistant Director, Retirement Services Program, Center for Retirement and Insurance Services, U.S. Office of Personnel Management, 1900 E Street, NW., Room 3305, Washington, DC 20415-3500; and

OPM Desk Officer, Office of Information & Regulatory Affairs, Office of Management and Budget, New Executive Office Building, 725 17th Street, NW., Room 10235, Washington, DC 20503.

For information regarding administrative coordination contact: Cyrus S. Benson, Team Leader, Publications Team, RIS Support Services/Support Group, U.S. Office of Personnel Management, 1900 E Street, NW., Room 4H28, Washington, DC 20415, (202) 606-0623.

Office of Personnel Management.
John Berry,
Director.

[FR Doc. E9-24850 Filed 10-14-09; 8:45 am]

BILLING CODE 6325-38-P